DEPARTMENT OF COMMERCE

National Oceanic and Atmospheric Administration

[RTID 0648-XB511]

Caribbean Fishery Management Council; Public Meeting

AGENCY: National Marine Fisheries Service (NMFS), National Oceanic and Atmospheric Administration (NOAA), Commerce.

ACTION: Notice of a public meeting.

SUMMARY: The Caribbean Fishery Management Council's (Council) Outreach and Education Advisory Panel (OEAP) will hold a 2-day public virtual meeting in November to discuss the items contained in the agenda in the SUPPLEMENTARY INFORMATION.

DATES: The OEAP virtual meeting will be held on November 9, 2021, from 12 p.m. to 3 p.m. and on November 10, 2021, from 12 p.m. to 3 p.m.

ADDRESSES: You may join the OEAP public virtual meeting (via Zoom) from a computer, tablet or smartphone by entering the following address:

Join OEAP Zoom Meeting

https://us02web.zoom.us/j/84039986774?pwd=SUhDc1hXeFloQWF3ajVtL2ZHRGN3Zz09

Meeting ID: 840 3998 6774

Passcode: 179728

One tap mobile

+17879667727,,84039986774#,,,,*179728# Puerto Rico

+19399450244,,84039986774#,,,,*179728# Puerto Rico

Dial by your location

+1 787 966 7727 Puerto Rico

+1 939 945 0244 Puerto Rico

+1 787 945 1488 Puerto Rico

+1 669 900 6833 US (San Jose)

+1 929 205 6099 US (New York)

+1 253 215 8782 US (Tacoma)

+1 301 715 8592 US (Washington DC)

+1 312 626 6799 US (Chicago)

+1 346 248 7799 US (Houston)

Meeting ID: 840 3998 6774

Passcode: 179728

FOR FURTHER INFORMATION CONTACT: Diana Martino, phone: (787) 226-8849; Caribbean Fishery Management Council, 270 Muñoz Rivera Avenue, Suite 401, San Juan, Puerto Rico 00918-1903.

SUPPLEMENTARY INFORMATION:

Tentative Agenda

November 9, 2021

12 p.m.-1 p.m.

—Call to Order

—Adoption of Agenda

—Outreach and Education Advisory Panel Chair's Report

—Updates:

—Recipe Book

—Illustrated Booklet on Ecosystem Based Fishery Management (EBFM)

—Final Products on St. Thomas/St. John Marine Protected Areas (MPAs)

—Calendar 2022 on U.S. Caribbean MPAs

—Marine Resources Education Program

—Outreach & Education Products Approved by the Caribbean Fishery Management Council: Illustrated Booklets (3), Bulletin Boards with Fisheries Information for Fish Markets/Restaurants and Signs on MPAs

1 p.m.-1:10 p.m.

—Break

1:10 p.m.-3 p.m.

—Issues/Activities in U.S.V.I. and P.R.

—Wilson Santiago/P.R.

—Nicole Greaux/St. Thomas

—Mavel Maldonado/St. Croix

—Status of Marine Protected Areas in Territorial Jurisdiction

—Presentations by Liaisons on their Respective Areas

—Outreach and Education Recommendations on MPAs

November 10, 2021

12 p.m.-1 p.m.

—Update Status of Fishery Ecosystem Plan

—Outreach and Education Strategies to Support the Plan

—Request for young Fishers Education Strategies to Recruit New Fishers—Vanessa Ramírez

1 p.m.-1:10 p.m.

—Break

1:10 p.m.-3 p.m.

—CFMC Facebook, Instagram and YouTube Communications with Stakeholders

—Other Business

The order of business may be adjusted as necessary to accommodate the completion of agenda items. The meeting will begin on November 9, 2021 at 12 p.m. and will end on November 10, 2021, at 3 p.m. Other than the start time, interested parties should be aware that discussions may start earlier or later than indicated. In addition, the meeting may be extended from, or completed prior to the date established in this notice.

Special Accommodations

For any additional information on this public virtual meeting, please contact Diana Martino, Caribbean Fishery Management Council, 270 Muñoz Rivera Avenue, Suite 401, San Juan, Puerto Rico, 00918-1903, telephone: (787) 226-8849.

Authority: 16 U.S.C. 1801 et seq.

Dated: October 15, 2021.
Tracey L. Thompson,
Acting Deputy Director, Office of Sustainable Fisheries, National Marine Fisheries Service.

[FR Doc. 2021-22864 Filed 10-19-21; 8:45 am]

BILLING CODE 3510-22-P